DEPARTMENT OF ENERGY

Federal Energy Regulatory Commission

[Project No. 2322-069]

Brookfield White Pine Hydro, LLC; Notice of Reasonable Period of Time for Water Quality Certification Application

On November 8, 2024, Maine Department of Environmental Protection (Maine DEP) submitted to the Federal Energy Regulatory Commission (Commission) notice that it received a request for a Clean Water Act section 401(a)(1) water quality certification as defined in 40 CFR 121.5, from Brookfield White Pine Hydro, LLC, in conjunction with the above captioned project on October 21, 2024. Pursuant to section 5.23(b) of the Commission's regulations,¹ we hereby notify Maine DEP of the following:

¹ 18 CFR 5.23(b).

Date of Receipt of the Certification Request: October 21, 2024.

Reasonable Period of Time to Act on the Certification Request: October 21, 2025.

If Maine DEP fails or refuses to act on the water quality certification request on or before the above date, then the certifying authority is deemed waived pursuant to section 401(a)(1) of the Clean Water Act, 33 U.S.C. 1341(a)(1).

Dated: November 20, 2024.
Debbie-Anne A. Reese,
Secretary.

[FR Doc. 2024-27779 Filed 11-26-24; 8:45 am]

BILLING CODE 6717-01-P